STATE JUSTICE INSTITUTE

SJI Board of Directors Meeting, Notice

AGENCY: State Justice Institute (SJI).

ACTION: Notice of Meeting.

SUMMARY: The SJI Board of Directors will be meeting on Monday, August 31, 2020 at 2:45 p.m. ET. The purpose of this meeting is to consider grant applications for the 4th quarter of FY 2020, and other business.

FOR FURTHER INFORMATION CONTACT: Jonathan Mattiello, Executive Director, State Justice Institute, 11951 Freedom Drive, Suite 1020, Reston, VA 20190, 571-313-8843, contact@sji.gov.

Jonathan D. Mattiello,
Executive Director.

[FR Doc. 2020-18908 Filed 8-27-20; 8:45 am]

BILLING CODE